FEDERAL COMMUNICATIONS COMMISSION

[DA 04-1405]

Announcement of Next Meeting Date and Agenda of Consumer Advisory Committee

AGENCY: Federal Communications Commission.

ACTION: Announcement of meeting.

SUMMARY: This document announces the next meeting date and agenda of the Consumer Advisory Committee whose purpose is to make recommendations to the Federal Communications Commission (“Commission”) regarding consumer issues within the jurisdiction of the Commission and to facilitate the participation of consumers (including people with disabilities and underserved populations, such as Native Americans and persons living in rural areas) in proceedings before the Commission.

DATES: The next meeting of the Committee will take place on Friday, June 18, 2004, from 9 a.m. to 4 p.m.

ADDRESSES: Federal Communications Commission, 445 12th Street, SW., Room TW-C305, Washington, DC 20554.

FOR FURTHER INFORMATION CONTACT: Scott Marshall, 202-418-2809 (voice), 202-418-0179 (TTY) or e-mail: scott.marshall@fcc.gov.

SUPPLEMENTARY INFORMATION: This is a summary of the Commission's Public Notice DA 04-1405 released May 19, 2004. The Commission announced the next meeting date and meeting agenda of its Consumer Advisory Committee.

Purpose and Functions

The purpose of the Committee is to make recommendations to the Commission regarding consumer issues within the jurisdiction of the Commission and to facilitate the participation of consumers (including people with disabilities and underserved populations, such as Native Americans and persons living in rural areas) in proceedings before the Commission.

Meeting Agenda

At its June 18, 2004 meeting, the Committee will (1) receive briefings by FCC staff regarding Agency activities; (2) receive a progress report from its Broadband Working Group; and (3) receive a briefing by its Homeland Security working group regarding problems and solutions raised at the March 25th homeland security disability summit. The Committee will also discuss truth in billing issues with representatives of public and private stakeholders. Time will be allotted between 10 a.m. and 12 p.m. for working group breakout sessions.

A copy of the May 19, 2004, Public Notice is available in alternate formats (Braille, cassette tape, large print or diskette) upon request. It is also posted on the Commission's Web site at http://www.fcc.gov/cgb/cac. Meeting minutes will be available for public inspection at the FCC headquarters building and will be posted on the Commission's Web site at http://www.fcc.gov/cgb/cac.

The Committee meeting will be open to the public and interested persons may attend the meeting and communicate their views. Members of the public will have an opportunity to address the Committee on issues of interest to them and the Committee. Written comments for the Committee may also be sent to the Committee's Designated Federal Officer, Scott Marshall.

The meeting site is fully accessible to people using wheelchairs or other mobility aids. Meeting agendas and handouts will be provided in accessible format; sign language interpreters, open captioning, and assistive listening devices will be provided on site. The meeting will be webcast with open captioning at http://www.fcc.gov/cgb/cac. Request other reasonable accommodations for people with disabilities as early as possible; please allow at least 5 days advance notice. Include a description of the accommodation you will need including as much detail as you can. Also include a way we can contact you if we need more information. Last minute requests will be accepted, but may be impossible to fill. Send an e-mail to: fcc504@fcc.gov or call the Consumer & Governmental Affairs Bureau at 202-418-0530 (voice), 202-418-0432 (TTY).

Federal Communications Commission.
K. Dane Snowden,
Chief, Consumer & Governmental Affairs Bureau.

[FR Doc. 04-12045 Filed 5-26-04; 8:45 am]

BILLING CODE 6712-01-P